DEPARTMENT OF AGRICULTURE

Office of the Secretary

Forest Resource Coordinating Committee

AGENCY: Forest Service, USDA.

ACTION: Notice; Re-establishment of the Forest Resource Coordinating Committee and call for nominations.

SUMMARY: The Department of Agriculture re-established the Forest Resource Coordinating Committee (Committee) pursuant to Section 8005 of the Food, Conservation, and Energy Act of 2008 (Act) (Pub. L. 110-246), and the Federal Advisory Committee Act (FACA), (5 U.S.C. App. 2). The Act passed into law as an amendment to the Cooperative Forestry Assistance Act of 1978 on June 18, 2008. The Committee has been re-established to continue coordinating non-industrial private forestry activities within the U.S. Department of Agriculture (USDA) and the private sector. The Secretary of Agriculture (Secretary) has determined that the work of the Committee is in the public's interest and relevant to the duties of the USDA. Therefore, the Secretary is seeking nominations to fill a vacancy and three expiring positions, with terms of 3 years, in the Conservation Organization, Forest Industry, Nonindustrial Private Forest Landowner, and Conservation District categories. The nominees must be associated with such organizations and be willing to represent that sector as it relates to non-industrial private forestry. The public is invited to submit nominations for membership on the Committee, either as a self-nomination or a nomination of any qualified and interested person.

DATES: Written nominations must be received by August 23, 2013. Nominations must contain a completed application packet that includes the nominee's name, resume, and completed Form AD-755 (Advisory Committee Membership Background Information).

ADDRESSES: The address to submit nominations will vary based upon delivery method. Nomination packages must be sent to the addresses below:

• Nominations sent via express mail or overnight courier service: Maya Solomon, USDA Forest Service, Cooperative Forestry Staff, 1621 North Kent Street, RPE-9, mail stop 1123, Arlington, Virginia 22209.

• Nominations sent via the U.S. Postal Service must be sent to the following address: USDA Forest Service; Cooperative Forestry Staff, State & Private Forestry; mail stop 1123; 1400 Independence Avenue SW., Washington, DC 20250-1123.

FOR FURTHER INFORMATION CONTACT: Maya Solomon, Forest Resource Coordinating Committee Program Coordinator, Telephone: 202-205-1376 or Ted Beauvais, Designated Federal Officer, Telephone: 202-205-1190. Individuals who use telecommunication devices for the deaf (TDD) may call the Federal Information Relay Service (FIRS) at 1-800-877-8339 between 8 a.m. and 5 p.m., Eastern Standard Time, Monday through Friday.

SUPPLEMENTARY INFORMATION:

Background

In accordance with the provisions of the Federal Advisory Committee Act (FACA), as amended (5 U.S.C., App. 2), the Secretary of Agriculture re-established the Committee. The purpose of the Committee is to continue providing direction and coordination of actions within the USDA, and coordination with State agencies and the private sector, to effectively address the national priorities for private forest conservation, with specific focus on owners of non-industrial private forest land as described in Section 8005 of the Food, Conservation, and Energy Act of 2008 (Pub. L. 110-246). These priorities include:

1. Conserving and managing working forest landscapes for multiple values and uses;

2. Protecting forests from threats, including catastrophic wildfires, hurricanes, tornadoes, windstorms, snow or ice storms, flooding, drought, invasive species, insect or disease outbreak, or development, and restoring appropriate forest types in response to such threats; and

3. Enhancing public benefits from private forests, including air and water quality, soil conservation, biological diversity, carbon storage, forest products, forestry-related jobs, production of renewable energy, wildlife, wildlife corridors and wildlife habitat, and recreation.

The Committee will continue meeting on at least an annual basis and its primary duties will include:

1. Providing direction and coordination of actions within the USDA, and coordination with State agencies and the private sector, to effectively address the national priorities, with specific focus on non-industrial private forest land;

2. Clarifying responsibilities of each agency represented on the Committee concerning the national priorities with specific focus on non-industrial private forest land;

3. Providing advice on the allocation of funds, including the competitive funds set-aside for Competitive Allocation of Funds Innovation Projects (Sections 8007 and 8008 of the Food, Conservation, and Energy Act of 2008 (Pub. L. 110-246)).

Advisory Committee Organization

The Committee is comprised of not more than 20 members. The members appointed to the Committee will be fair and balanced in terms of points of view represented, functions to be performed, and will represent a broad array of expertise and relevance to a membership category. The Committee members will serve staggered terms of up to 3 terms and meet annually, or as often as necessary at times as designated by the Designated Federal Officer (DFO). No individual who is currently registered as a Federal lobbyist is eligible to serve as a member of the Committee. The appointment of members to the Committee will be made by the Secretary. The Committee composition is as follows:

(a) Chief of the Forest Service;

(b) Chief of the Natural Resources Conservation Service;

(c) Director of the Farm Service Agency;

(d) Director of the National Institute of Food and Agriculture;

(e) Three State foresters or equivalent State officials from geographically diverse regions of the United States;

(f) A representative of a State fish and wildlife agency;

(g) Three owners of non-industrial private forest land;

(h) A forest industry representative;

(i) Three representatives from conservation organizations;

(j) A land-grant university or college representative;

(k) A private forestry consultant;

(l) A representative from a State Technical Committee;

(m) A representative of an Indian Tribe; and

(n) A representative from a Conservation District.

Vacancy

Representatives from the following categories will be appointed by the Secretary with terms of 3 years; Conservation Organization, Forestry Industry, Nonindustrial Private Forest Landowner, and Conservation District. Vacancies will be filled in the manner in which the original appointment was made.

Nomination and Application Instructions

The appointment of members to the Committee is made by the Secretary of Agriculture. Any individual or organization may nominate one or more qualified persons to represent the above vacancy on the Forest Resource Coordinating Committee. To be considered for membership, nominees must provide the following—

1. Résumé describing qualifications on how they are qualified to represent the unoccupied vacancy;

2. State why they want to serve on the committee and what they can contribute;

3. Show their past experience in working successfully as part of a coordinating group; and

4. Complete Form AD-755, Advisory Committee Membership Background Information. The form AD-755 may be obtained from the Forest Service contacts or from the following Web site: http://www.usda.gov/documents/OCIO_AD_755_Master_2012.pdf.

5. Letters of recommendation are welcome.

All nominations will be vetted by USDA. Individuals may also nominate themselves. A list of qualified applicants from which the Secretary of Agriculture shall appoint members to the Forest Resource Coordinating Committee will be prepared. Applicants are strongly encouraged to submit nominations via overnight mail or delivery to ensure timely receipt by the USDA. Members of the Committee will serve without compensation; however, the DFO may approve the reimbursement for travel expenses for the performance of duties on behalf of the Committee.

All appointments to the Committee will follow equal opportunity practices in accordance with USDA policies. Membership will include, to the extent practicable, individuals with demonstrated ability to represent minorities, women, persons with disabilities, and senior citizen to ensure that the recommendations of the FRCC have taken into account the needs of the diverse groups served by the USDA.

Dated: July 16, 2013.
Gregory Parham,
Assistant Secretary for Administration, U. S. Department of Agriculture.

[FR Doc. 2013-17706 Filed 7-23-13; 8:45 am]

BILLING CODE 3410-11-P